DEPARTMENT OF COMMERCE

International Trade Administration

[C-533-858, C-489-817]

Certain Oil Country Tubular Goods From India and the Republic of Türkiye: Final Results of the Expedited Second Sunset Reviews of the Countervailing Duty Orders

AGENCY: Enforcement and Compliance, International Trade Administration, Department of Commerce.

SUMMARY: The U.S. Department of Commerce (Commerce) finds that revocation of the countervailing duty (CVD) orders on certain oil country tubular goods (OCTG) from India and the Republic of Türkiye (Türkiye) would be likely to lead to continuation or recurrence of countervailable subsidies at the levels indicated in the “Final Results of Sunset Reviews” section of this notice.

DATES: Applicable January 8, 2026.

FOR FURTHER INFORMATION CONTACT: David De Falco, Trade Agreements Policy and Negotiations, Enforcement and Compliance, International Trade Administration, U.S. Department of Commerce, 1401 Constitution Avenue NW, Washington, DC 20230; telephone: (202) 482-2178.

SUPPLEMENTARY INFORMATION:

Background

On September 10, 2014, Commerce published the Orders on OCTG from India and Türkiye.¹ On July 1, 2025, Commerce published the notice of initiation of the sunset reviews of the Order, pursuant to section 751(c) of the Tariff Act of 1930, as amended (the Act), and 19 CFR 351.218(c).²

¹ See Certain Oil Country Tubular Goods from India and the Republic of Turkey: Countervailing Duty Orders and Amended Affirmative Final Countervailing Duty Determination for India, 79 FR 53688 (September 10, 2014) (India Order; and Türkiye Order) (collectively, Orders).

² See Initiation of Five-Year (Sunset) Reviews, 90 FR 28722 (July 1, 2025).

On July 16, 2025, Commerce received timely and complete notices of intent to participate in this review from the domestic interested parties,³ within the deadline specified in 19 CFR 351.218(d)(1)(i).⁴ U.S. Steel claims that it has interested party status within the meaning of section 771(9)(C) of the Act and 19 CFR 351.102(b)(29)(v) as a U.S. producer of the domestic like product; USOMA claims that it has interested party status within the meaning of 771(9)(E) of the Act and 19 CFR 351.102(b)(17) as a trade or business association in which all of its members produce the domestic like product in the United States.⁵

³ The domestic interested parties are the U.S. OCTG Manufacturers Association (USOMA) and United States Steel Corporation (U.S. Steel).

⁴ See USOMA's Letter, “Five-Year (“Sunset”) Review of the Countervailing Duty Order on Certain Oil Country Tubular Goods from India: Domestic Interested Parties' Notice of Intent to Participate,” dated July 16, 2025; U.S. Steel's Letter, “Second Five-Year (“Sunset”) Review of Antidumping and Countervailing Duty Orders on Oil Country Tubular Goods from India: Notice of Intent to Participate,” dated July 16, 2025; USOMA's Letter, “Five-Year (“Sunset”) Review of the Countervailing Duty Order on Certain Oil Country Tubular Goods from the Republic of Türkiye: Domestic Interested Parties' Notice of Intent to Participate,” dated July 16, 2025; and U.S. Steel's Letter, “Second Five-Year (“Sunset”) Review of Antidumping and Countervailing Duty Orders on Oil Country Tubular Goods from Turkey: Notice of Intent to Participate,” dated July 16, 2025.

⁵ Id.

On July 31, 2025, Commerce received an adequate substantive response from the domestic interested parties, within the 30-day deadline specified in 19 CFR 351.218(d)(3)(i).⁶ Commerce did not receive a substantive response from the Government of India, the Government of Türkiye, nor a respondent interested party to this proceeding. On August 22, 2025, Commerce notified the U.S. International Trade Commission (ITC) that it did not receive an adequate substantive response from respondent interested parties.⁷ As a result, Commerce conducted expedited (120-day) sunset reviews of the Orders, pursuant to section 751(c)(3)(B) of the Act and 19 CFR 351.218(e)(1)(ii)(B)(2) and (C)(2).

⁶ See Domestic Interested Parties' Letter, “Oil-Country Tubular Goods from India: Substantive Response of the Domestic Industry to Commerce's Notice of Initiation of Five-Year (“Sunset”) Reviews,” dated July 31, 2025; and Domestic Interested Parties' Letter, “Oil-Country Tubular Goods from Türkiye: Substantive Response of the Domestic Industry to Commerce's Notice of Initiation of Five-Year (“Sunset”) Reviews,” dated July 31, 2025.

⁷ See Commerce's Letter, “Sunset Review Initiated on July 1, 2025,” dated August 22, 2025.

Due to the lapse in appropriations and Federal Government shutdown, on November 14, 2025, Commerce tolled all deadlines in administrative proceedings by 47 days.⁸ Additionally, due to a backlog of documents that were electronically filed via Enforcement and Compliance's Antidumping and Countervailing Duty Centralized Electronic Service System (ACCESS) during the Federal Government shutdown, on November 24, 2025, Commerce tolled all deadlines in administrative proceedings by an additional 21 days.⁹ Accordingly, the deadline for these final results is now January 5, 2026.

⁸ See Memorandum, “Deadlines Affected by the Shutdown of the Federal Government,” dated November 14, 2025.

⁹ See Memorandum, “Tolling of all Case Deadlines,” dated November 24, 2025.

Scope of the Orders

The product covered by these Orders is OCTG from India and Türkiye. For the full description of the scope of the Orders, see the Issues and Decisions Memorandum.¹⁰

¹⁰ See Memorandum, “Issue and Decision Memorandum for the Final Results of the Expedited Sunset Reviews of the Countervailing Duty Orders on Certain Oil Country Tubular Goods from India and the Republic of Türkiye,” dated concurrently with, and hereby adopted by, this notice (Issues and Decision Memorandum).

Analysis of Comments Received

A complete discussion of all issues raised in these sunset reviews, including the likelihood of continuation or recurrence of subsidization and the countervailable subsidy rates likely to prevail if the Orders were to be revoked, is contained in the accompanying Issues and Decision Memorandum.¹¹ A list of the topics discussed in the Issues and Decision Memorandum is attached as an appendix to this notice. The Issues and Decision Memorandum is a public document and is on file electronically via ACCESS, which is available to registered users at https://access.trade.gov. In addition, complete versions of the Issues and Decision Memorandum can be accessed directly at https://access.trade.gov/public/FRNoticesListLayout.aspx.

¹¹ Id.

Final Results of Sunset Reviews

Pursuant to sections 751(c) and 752(b) of the Act, Commerce determines that revocation of the India Order would be likely to lead to continuation or recurrence of countervailable subsidies at the following net countervailable subsidy rates:

Producers | Net countervailable subsidy rate (percent ad valorem)
Jindal SAW Ltd | 27.77
GVN Fuels Limited/Maharashtra Seamless Limited/Jindal Pipes Limited | 13.87
All Others | 20.82

Pursuant to sections 751(c) and 752(b) of the Act, Commerce determines that revocation of the Türkiye Order would be likely to lead to continuation or recurrence of countervailable subsidies at the following net countervailable subsidy rates:

Producers | Net countervailable subsidy rate (percent ad valorem)
Borusan Mannesmann Boru Sanayi ve Ticaret A.S., and cross-owned affiliates Borusan Istikbal Ticaret, Borusan Mannesmann Boru Yatirim Holding A.S., Borusan Holding A.S | 2.87
All Others | 2.87

Notification Regarding Administrative Protective Order (APO)

This notice also serves as the only reminder to parties subject to an APO of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(b), and 777(i)(1) of the Act, and 19 CFR 351.221(c)(5)(ii).

Dated: January 5, 2026.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of a Countervailable Subsidy

2. Net Countervailable Subsidy Rates Likely to Prevail

3. Nature of the Subsidies

VII. Final Results of Sunset Reviews

VIII. Recommendation

[FR Doc. 2026-00185 Filed 1-7-26; 8:45 am]

BILLING CODE 3510-DS-P